DEPARTMENT OF TRANSPORTATION

National Highway Traffic Safety Administration

[Docket No. NHTSA-2010-0177; Notice 2]

OSRAM SYLVANIA Products, Inc.; Grant of Petition for Decision of Inconsequential Noncompliance

AGENCY: National Highway Traffic Safety Administration, DOT.

ACTION: Grant of Petition.

SUMMARY: OSRAM SYLVANIA Products, Inc., (OSRAM SYLVANIA), has determined that certain Type “H11 C” light sources that it manufactured fail to meet the requirements of paragraph S7.7 of Federal Motor Vehicle Safety Standard (FMVSS) No. 108, Lamps, Reflective Devices, and Associated Equipment. OSRAM SYLVANIA has filed an appropriate report pursuant to 49 CFR Part 573, Defect and Noncompliance Responsibility and Reports, dated August 24, 2010.

Pursuant to 49 U.S.C. 30118(d) and 30120(h) (see implementing rule at 49 CFR part 556), OSRAM SYLVANIA has petitioned for an exemption from the notification and remedy requirements of 49 U.S.C. Chapter 301 on the basis that this noncompliance is inconsequential to motor vehicle safety. Notice of receipt of the petition was published, with a 30-day public comment period, on January 25, 2011 in the Federal Register (76 FR 4420). No comments were received. To view the petition, and all supporting documents log onto the Federal Docket Management System (FDMS) Web site at: http://www.regulations.gov/. Then follow the online search instructions to locate docket number “NHTSA-2010-0177.”

For further information on this decision contact Mr. Michael Cole, Office of Vehicle Safety Compliance, the National Highway Traffic Safety Administration (NHTSA), telephone (202) 366-2334, facsimile (202) 366-7002.

Lamps Involved: OSRAM SYLVANIA estimates that approximately 28,412 “H11 C” light sources (bulbs) that it manufactured on June 23 and 24, 2010 are affected. All of the affected light sources were manufactured by OSRAM GmbH, Industriestrasse, Herbrechtingen, Germany.

Summary of Osram Sylvania's Analysis and Arguments: OSRAM SYLVANIA described the noncompliance as the mismarking of type “H11 C” lighting sources as type “H11.”

In its petition OSRAM SYLVANIA argues that the noncompliance is inconsequential to motor vehicle safety for the following reasons:

(1) The noncompliance in this case pertains solely to the failure of the subject light sources to meet the applicable marking requirements.

(2) “H11 C” light sources are designed to be completely interchangeable with the original “H11” light sources. When Philips Lighting B.V., submitted its modification to the “H11” light source specification that became the “H11 C” specification it certified that use of the “H11 C” light source will not create a noncompliance with any requirement of FMVSS No. 108 when used to replace an “H11” light source in a headlamp certified by its manufacturer as conforming to all applicable Federal motor vehicle safety standards. Subject “H11 C” light sources are designed to conform to Part 564 Docket NHTSA 98-3397-81 including the additional requirements under paragraph IX. In other words, inadvertent installation of a subject “H11 C” light source in place of an “H11” light source—or vice versa—will not create a noncompliance with any of the performance or interchangeability requirements of FMVSS No. 108 (including beam pattern photometrics) or otherwise present an increased risk to motor vehicle safety.

(3) “H11 C” light sources have the same filament position, dimension and tolerances, capsule and capsule support dimensions, bulb base interchangeability dimensions, seal specifications, and electrical specifications as the “H11.” The only difference between the “H11” light source and the “H11 C” light source is that the “H11 C” provides for the light transmitting portion of the glass wall to incorporate a color controlling optical filter in order to improve visibility.¹

¹ Petition for “H11 C” Replaceable Light Sources Listing, Docket NHTSA 98-3397-81, November 1, 2007.

(4) The agency has concluded in previous similar petitions that a noncompliance is inconsequential when mismarked light sources are otherwise fully compliant with the performance requirements of the standard.

Supported by the above stated reasons, OSRAM SYLVANIA believes that the described FMVSS No. 108 noncompliance is inconsequential to motor vehicle safety, and that its petition, to exempt it from providing recall notification of noncompliance as required by 49 U.S.C. 30118 and remedying the recall noncompliance as required by 49 U.S.C. 30120, should be granted.

Discussion: NHTSA has reviewed and accepts OSRAM SYLVANIA's analyses that this noncompliance is inconsequential to motor vehicle safety. The “H11 C” light source is a design that is completely interchangeable with the original “H11” light source. The “H11 C” light sources have the same filament position, dimension and tolerances, capsule and capsule support dimensions, bulb base interchangeability dimensions, seal specifications, and electrical specifications as the “H11.” As such, NHTSA agrees that inadvertent installation of a mismarked “H11 C” light source in place of an “H11” light source—or vice versa—would not create a noncompliance with any of the headlamp performance requirements of FMVSS 108 or otherwise present an increased risk to motor vehicle safety.

NHTSA Decision: In consideration of the foregoing, NHTSA has decided that OSRAM SYLVANIA has met its burden of persuasion that the FMVSS No. 108 noncompliance in the lamps identified in OSRAM SYLVANIA's Noncompliance Information Report and is inconsequential to motor vehicle safety. Accordingly, OSRAM SYLVANIA's petition is granted and the petitioner is exempted from the obligation of providing notification of, and a remedy for, that noncompliance under 49 U.S.C. 30118 and 30120.

NHTSA notes that the statutory provisions (49 U.S.C. 30118(d) and 30120(h)) that permit manufacturers to file petitions for a determination of inconsequentiality allow NHTSA to exempt manufacturers only from the duties found in sections 30118 and 30120, respectively, to notify owners, purchasers, and dealers of a defect or noncompliance and to remedy the defect or noncompliance. Therefore, this decision only applies to the lamps that OSRAM SYLVANIA no longer controlled at the time that it determined that a noncompliance existed in the subject vehicles.

Authority: (49 U.S.C. 30118, 30120: delegations of authority at 49 CFR 1.95 and 501.8)

Issued On: April 11, 2013.
Claude H. Harris,
Director, Office of Vehicle Safety Compliance.

[FR Doc. 2013-08956 Filed 4-16-13; 8:45 am]

BILLING CODE 4910-59-P